DEPARTMENT OF HEALTH AND HUMAN SERVICES

Indian Health Service

Agency Information Collection Activities: Submission for OMB Review; Comment Request

AGENCY: Indian Health Service, HHS.

ACTION: Information collection activity: proposed collection: IHS Scholarship Program Application; request for public comment: 30-day notice.

SUMMARY: In compliance with Section 3507(a)(1)(D) of the Paperwork Reduction Act of 1995, for opportunity for public comment on proposed information collection projects, the Indian Health Service (IHS) has submitted to the Office of Management and Budget (OMB) a request to review and approve the information collection listed below. This proposed information collection project was previously published in the Federal Register on December 7, 2000 (65 FR 76648), and allowed 60 days for public comment. No public comment was received in response to the notice. The purpose of this notice is to allow 30 days for public comment to be submitted to OMB.

Proposed Collection

Title: 0917-0006, “IHS Scholarship Program Application.” This collection known formerly as, “Application for Participation in the IHS Scholarship Program.” Type of Information Collection Request: 3-year reinstatement, with change, of previously approved information collection, 0917-0006. Form Number(s): IHS-856, 856-2, through 856-8, D-02, F-02, F-04, G-02, G-04, H-07, H-08, J-04, J-05, K-03, K-04, and L-03. Reporting formats are contained in the student handbook and the applicant booklet. Need and Use of Information Collection: The IHS Scholarship Program needs this information for program administration and uses the information to solicit, process and award IHS Pre-graduate, Preparatory and/or Health Professions Scholarship grantees and monitor the academic performance of awardees, to place awardees at payback sites, and for awardees to request additional program. The IHS Scholarship Program's plans to streamline the application to reduce the time needed by applicants to complete and provide the information and to use information technology to make the application electronically available on the Internet have been delayed until the 2003-2004 academic year. Affected Public: Individuals, not-for-profit institutions and State, local or Tribal Government. Type of Respondents: Students pursuing health care professions.

Table of Total Annual Burden Hour(s)
Data Collection Instrument(s) | Number of respondents | Responses per respondent | Total annual response | Burden hour per response * | Annual burden hours
Scholarship Application (IHS-856) | 1500 | 1 | 1500 | 1.00 (60 min) | 1,500
Checklist (856-2) | 1500 | 1 | 1500 | 0.13 (8 min) | 195
Course Verification (856-3) | 1500 | 1 | 1500 | 0.70 (42 min) | 1050
Faculty/Employer Application (856-4) | 3000 | 1 | 3000 | 0.83 (50 min) | 2490
Justication (8567-5) | 1500 | 1 | 1500 | 0.75 (45 min) | 1125
Federal Debt (856-6) | 1500 | 1 | 1500 | 0.13 (8 min) | 195
MPH only (856-7) | 25 | 1 | 25 | 0.83 (50 min) | 21
Accept/Decline (856-8) | 650 | 1 | 650 | 0.13 (8 min) | 84
Stipend Checks (D-02) | 100 | 1 | 100 | 0.13 (8 min) | 13
Enrollment (F-02) | 1,300 | 1 | 1,300 | 0.13 (8 min) | 169
Academic Problem/Change (F-04) | 50 | 1 | 50 | 0.13 (8 min) | 6
Request Assistance (G-02) | 217 | 1 | 217 | 0.13 (8 min) | 28
Summer School (G-04) | 193 | 1 | 193 | 0.10 (6 min) | 19
Placement (H-07) | 250 | 1 | 250 | 0.18 (11 min) | 45
Graduation (H-08) | 250 | 1 | 250 | 0.17 (10 min) | 43
Site Preference (J-04) | 150 | 1 | 150 | 0.13 (8 min) | 20
Travel Reimb (J-05) | 150 | 1 | 150 | 0.10 (6 min) | 15
Status Report (K-03) | 250 | 1 | 250 | 0.25 (15 min) | 63
Preferred Assignment (K-04) | 200 | 1 | 200 | 0.75 (45 min) | 150
Deferment (L-03) | 20 | 1 | 20 | 0.13 (8 min) | 3
Total | 14,305 |  |  |  | 7,234
* For ease of understanding, burden hours are also provided in actual minutes.

The annual burden hour increase from 5,390 to 7,234 hours is due to the ever increasing number of applications being received for the scholarship program. There are no capital costs, operating costs and/or maintenance costs to report for this collection of information.

Comments

Requests for Comments: Your written comments and/or suggestions are invited on one or more of the following points: (a) Whether the information collection activity is necessary to carry out an agency function; (b) whether the agency processes the information collected in a useful and timely fashion; (c) the accuracy of public burden estimate (the estimated amount of time needed for individual respondents to provide the requested information); (d) whether the methodology and assumptions used to determine the estimate are logical; (e) ways to enhance the quality, utility, and clarity of the information being collected; and (f) ways to minimize the public burden through the use of automated, electronic, mechanical, or other technological collection techniques or other forms of information technology.

Direct Comments to OMB: Send your written comments and suggestions regarding the proposed information collection contained in this notice, especially regarding the estimated public burden and associated response time, to: Office of Management and Budget, Office of Regulatory Affairs, New Executive Office Building, Room 10235, Washington, DC 20503, Attention: Desk Officer for IHS.

To request more information on the proposed collection or to obtain a copy of the data collection instrument(s) and/or instruction(s), contact: Mr. Lance Hodahkwen, Sr., M.P.H., IHS Reports Clearance Office, 12300 Twinbrook Parkway, Suite 450, Rockville, MD 20852-1601, or call non-toll free (301) 433-5938 or send via facsimile to (301) 443-2316, or send your E-mail requests, comments, and return address to: lhodahkw@hqe.ihs.gov.

Comment Due Date: Comments regarding this information collection are best assured of having their full effect if received on or before October 11, 2001.

Dated: August 31, 2001.
Michael H. Trujillo,
Assistant Surgeon General, Director, Indian Health Service.

[FR Doc. 01-22667 Filed 9-10-01; 8:45 am]

BILLING CODE 4160-16-M